DEPARTMENT OF HOMELAND SECURITY

Federal Emergency Management Agency

[Docket ID: FEMA-2025-0012; OMB No. 1660-0062]

Agency Information Collection Activities: Submission for OMB Review, Comment Request; State/Local/Tribal Hazard Mitigation Plans

AGENCY: Federal Emergency Management Agency, Department of Homeland Security.

ACTION: 30-Day notice of extension and request for comments.

SUMMARY: The Federal Emergency Management Agency (FEMA) will submit the information collection abstracted below to the Office of Management and Budget (OMB) for review and clearance in accordance with the requirements of the Paperwork Reduction Act of 1995. FEMA invites the general public to take this opportunity to comment on an extension of a currently approved information collection. In accordance with the requirements of the Paperwork Reduction Act of 1995, this notice seeks comments concerning the nature of the information collection, the categories of respondents, the estimated burden (i.e., the time, efforts and resources used by respondents to respond) and cost, and actual data collection instruments FEMA will use regarding the state, local, tribal and territorial hazard mitigation plan development or update process.

DATES: Comments must be submitted on or before September 22, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Amanda Smith, Acting Division Director, Community Planning Division, Hazard Mitigation Directorate, Resilience, FEMA; (202) 641-1686; Amanda.Smith@fema.dhs.gov.

SUPPLEMENTARY INFORMATION: Section 322 of the Robert T. Stafford Disaster Relief and Emergency Assistance Act (Stafford Act), 42 U.S.C. 5165, as amended by the Disaster Mitigation Act of 2000 (DMA 2000) (Pub. L. 106-390), provided the initial framework for linking pre-and post-disaster mitigation planning and initiatives with public and private interests to ensure an integrated, comprehensive approach to disaster loss reduction. Since DMA 2000 amended the Stafford Act, additional laws were passed to help shape hazard mitigation policy. These revisions are included in the Sandy Recovery Improvement Act of 2013, the National Flood Insurance Act of 1968, and the Water Infrastructure Improvements for the Nation Act of 2016. Title 44 Code of Federal Regulations (CFR) Part 201 provides the mitigation planning requirements for state, local, tribal, and territorial governments to identify the natural hazards that impact them, to identify actions and activities to reduce any losses from hazards, and to establish a coordinated process to implement the plan, taking advantage of a wide range of resources. State, local, and Tribal mitigation planning policies provide further guidance regarding mitigation plan development or update, review, and approval.

This proposed information collection was previously published in the Federal Register on April 30, 2025, at 90 FR 17945 with a 60-day public comment period. FEMA received seven public comments. Five of the anonymously submitted comments shared general program feedback on the value of hazard mitigation planning. FEMA acknowledges and appreciates these comments. Two comments specifically mentioned administrative burden for plan updates. FEMA acknowledges and appreciates the comments made; the feedback is being taken under consideration for future policy updates. The purpose of this notice is to notify the public that FEMA will submit the information collection abstracted below to the Office of Management and Budget for review and clearance.

Collection of Information

Title: State/Local/Tribal Hazard Mitigation Plans.

Type of Information Collection: Extension of a currently approved information collection.

OMB Number: 1660-0062.

FEMA Forms: Not applicable.

Abstract: In order to be eligible for certain types of FEMA non-emergency assistance, state, local, tribal, and territorial governments are required to have a current FEMA-approved hazard mitigation plan that meets the criteria established in 44 CFR part 201 and applicable mitigation planning policies.

Affected Public: State, Local, and Tribal Governments.

Estimated Number of Respondents: 224.

Estimated Number of Responses: 1,243.

Estimated Total Annual Burden Hours: 219,156.

Estimated Total Annual Respondent Cost: $15,316,813.

Estimated Respondents' Operation and Maintenance Costs: $53,393,717.

Estimated Respondents' Capital and Start-Up Costs: $8,855,000.

Estimated Total Annual Cost to the Federal Government: $2,072,906.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Senior Director for Information Management, Office of the Chief Administrative Officer, Mission Support, Federal Emergency Management Agency, Department of Homeland Security.

[FR Doc. 2025-16017 Filed 8-20-25; 8:45 am]

BILLING CODE 9110-12-P